DEPARTMENT OF ENERGY

Federal Energy Regulatory Commission

[Docket No. RM01-12-000]

Standard Market Design Data and Software Standards; Notice of Follow-Up Staff Conference

August 22, 2002.

As announced at the July 18, 2002 Standard Market Design Data and Software Conference, the Federal Energy Regulatory Commission (Commission) will hold a follow-up conference to continue our efforts to standardize inputs and outputs for the software used to support electric grid and market operations under the Standard Market Design initiative. The conference will be held on October 3, 2002, starting at 9 a.m. at the FERC, 888 First St. NE., in Washington D.C., in the Commission Meeting Room.

The goal of the conference will be to further understand what steps are necessary to assure that the software developed to support SMD is of the highest possible quality, and is compatible and consistent across vendors and market regions. Some degree of standardization with respect to input and output data, elements and formats will be needed; however, this standardization must not constrain either competition between vendors nor innovation in software capabilities or approaches. FERC believes that we also need to develop a set of model test problems to use for testing, evaluating, and comparing electric market software products.

To this end, the conference will explore whether the work already developed for the Ontario market operations is a useful starting point, and review the process the Ontario Energy Board used to develop their standards and software. We will invite key organizations working on software issues to present status reports on their areas of focus and expertise and the status of and industry support for their efforts; this will include a discussion of whether these are the proper players and processes to move ahead. Next, we will discuss what additional steps, processes, and organizations are needed to assure that appropriate standardization of software inputs, outputs and test problems is achieved. We will seek industry and participant agreement and commitment to these processes.

We will issue a detailed agenda for the conference, with links to relevant documents and organizations, in mid-September.

All interested parties are invited to attend. There is no registration or fee.

The conference will be transcribed. Those interested in acquiring the transcript should contact Ace Reporters at 202-347-3700, or 800-336-6646. Transcripts will be placed in the public record ten days after the Commission receives the transcripts. Additionally, Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC.”

For additional information, please contact René Forsberg at 202-502-8425 or René.Forsberg@ferc.gov.

Linwood A. Watson, Jr.,
Deputy Secretary.

[FR Doc. 02-21912 Filed 8-27-02; 8:45 am]

BILLING CODE 6717-01-P